Title 3—

The President

Proclamation 8164 of August 6, 2007

Women's Equality Day, 2007

By the President of the United States of America

A Proclamation

On Women's Equality Day, we commemorate the adoption of the 19th Amendment to our Constitution and the strong leadership of extraordinary women who have made America a more perfect Union by advancing women's suffrage.

At the Seneca Falls Convention of 1848, a group of visionaries gathered to proclaim the ideas that “all men and women are created equal” and “endowed by their Creator with certain inalienable rights.” That gathering grew into a national movement that led to the ratification of the 19th Amendment, guaranteeing women the right to vote. This achievement reflects the vision and determination of the suffragists who stood for a freer society and changed our Nation's history.

Since the passage of the 19th Amendment, pioneers such as Margaret Chase Smith and Sandra Day O'Connor rose above obstacles and broke down barriers to equality. Today, American women are shaping our Nation and the world by serving in all walks of life. Many brave women volunteer to wear the uniform of the United States, and they serve as an inspiration to all.

Our Nation is grateful for the bold leadership of American women who have opened doors of opportunity for women of future generations. On Women's Equality Day we honor the suffragists and all those who seek to expand equality in our world.

NOW, THEREFORE, I, GEORGE W. BUSH, President of the United States of America, by virtue of the authority vested in me by the Constitution and laws of the United States, do hereby proclaim August 26, 2007, as Women's Equality Day. I call upon the people of the United States to celebrate the achievements of women and observe this day with appropriate programs and activities.

IN WITNESS WHEREOF, I have hereunto set my hand this sixth day of August, in the year of our Lord two thousand seven, and of the Independence of the United States of America the two hundred and thirty-second.

[FR Doc. 07-3918

Filed 8-8-07; 8:45 am]

Billing code 3195-01-P